DEPARTMENT OF ENERGY

Federal Energy Regulatory Commission

Notice of Application for Amendment of License and Soliciting Comments, Motions To Intervene, and Protests

December 28, 2000.

a. Application Type: Application to Amend License for the Big Creek No. 3 Project.

b. Project No.: 120-017.

c. Date Filed: January 12, 2000.

d. Applicant: Southern California Edison Company (SCE).

e. Name of Project: Big Creek No. 3 Project.

f. Location: The project is located on the San Joaquin River in Fresno, Tulare, and Kern Counties. The project utilizes lands of the Sierra National Forest.

g. Filed Pursuant to: Federal Power Act, 16 U.S.C. 791(a)-825(r).

h. Applicant Contact: Mr. Stephen E. Pickett, Vice President and General Counsel, Southern California Edison Company, 2244 Walnut Grove Avenue, P.O. Box 800, Rosemead, CA 91770, (626) 302-4459.

i. FERC Contact: Any questions on this notice should be addressed to Mr. Vedula Sarma at (202) 219-3273 or by e-mail at vedula.sarma@ferc.fed.us.

j. Deadline for filing comments and/or motions: February 2, 2001.

Please include the project number (120-017) on any comments or motions filed.

k. Description of Filing: SCE proposes to delete one 220kV transmission line because it is part of SCE's Transmission System Network. The licensee filed revised exhibits M, K, and L to reflect changes to transmission facilities, and other revisions to project facilities to reflect as-built conditions of the project. The proposed modifications reduce the amount of federal lands used by the project by 530 acres.

l. Locations of the Application: A copy of the application is available for inspection and reproduction at the Commission's Public Reference Room, located at 888 First Street, NE., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

n. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-163 Filed 1-3-01; 8:45 am]

BILLING CODE 6717-01-M